DEPARTMENT OF ENERGY

Federal Energy Regulatory Commission

[P-120-020]

Southern California Edison Company; Notice of Application Accepted for Filing and Soliciting Motions To Intervene and Protests

July 5, 2007.

Take notice that the following hydroelectric application has been filed with the Commission and is available for public inspection.

a. Type of Application: New License for Major Project-Existing Dam.

b. Project No.: P-120-020.

c. Date Filed: February 23, 2007.

d. Applicant: Southern California Edison Company.

e. Name of Project: Big Creek No. 3 Hydroelectric Power Project.

f. Location: The Big Creek No. 3 Hydroelectric Project is located in Fresno and Madera Counties, California near the town of Auberry within the San Joaquin River watershed. The Project occupies 377.16 acres of federal lands.

g. Filed Pursuant to: Federal Power Act 16 U.S.C. 791 (a)-825(r).

h. Applicant Contact: Russ W. Krieger, Vice President, Power Production, Southern California Edison Company, 300 North Lone Hill Ave., San Dimas, California 91773. Phone: (909) 394-8667.

i. FERC Contact: Jim Fargo, (202) 502-6095, or e-mail: james.fargo@ferc.gov

j. Deadline for filing motions to intervene and protests: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. Description of Project: The existing Big Creek No. 3 Hydroelectric Power Project consists of one powerhouse; one moderate-sized dam and forebay; and one water conveyance system. The Project is operated as a reservoir-storage type plant with an installed operating capacity of 174.45 MW. Water for the Project is taken from the San Joaquin River just downstream of its confluence with Big Creek and conveyed to the Big Creek No. 3 Powerhouse through Tunnel No. 3. The energy generated by the Project is transmitted to the SCE transmission and distribution system and used for public utility purposes. The project would have an average annual generation of 804,240 megawatt-hours.

• Powerhouse: Big Creek Powerhouse No. 3, with five turbine generator units.

• Moderate-sized dam and forebay: Dam 6 and Dam 6 Impoundment, with a capacity of about 933 ac-ft, at an elevation of about 2,230 ft above mean sea level (msl).

• Water conveyance system: Powerhouse No. 3 water conveyance system, about 5.3 miles long, conveys water from Dam No. 6 Impoundment to Big Creek Powerhouse No. 3 through a tunnel with a capacity of about 3,250 cfs. The system includes a pressure-relief valve system and penstocks providing pressurized water from the tunnel to the turbine.

m. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Kimberly D. Bose,
Secretary.

[FR Doc. E7-13520 Filed 7-11-07; 8:45 am]

BILLING CODE 6717-01-P